Proclamation 10578 of May 12, 2023

National Women's Health Week, 2023

By the President of the United States of America

A Proclamation

During National Women's Health Week, our Nation recommits to improving the health and well-being of women and girls across America and encouraging them to make their health a priority.

The White House officially observed its first National Women's Health Week in 2010, the same year we passed the landmark Affordable Care Act. This law ended the shameful practices of denying women coverage for pre-existing conditions and charging them more for health care simply because they are women. It extended crucial preventive care, like cancer screenings, to millions more Americans and expanded access to basic health services, like maternity care.

As President, I have worked hard to protect the expanded health care coverage provided to millions by the Affordable Care Act and to strengthen Medicaid for those who need it. At the same time, I have acted to improve the well-being of women and their families, including slashing prescription drug prices and saving American families hundreds of dollars a year on health insurance premiums. I am proud that our Nation has seen historic health insurance coverage gains since I took office, and I am working to ensure that health care is a right in our Nation, not a privilege.

But so many women are still denied this right, especially when it comes to making deeply personal decisions about their own bodies and health. Last year, the Supreme Court overturned Roe v. Wade, with grave repercussions for millions of women across the country. Since then, women having miscarriages have been turned away from emergency rooms by health care professionals afraid of the legal consequences of providing care. Women have been told they need to wait until they are sicker before they can be seen by a doctor. Others have been denied prescriptions they need, and still others are forced to travel hundreds of miles away from their homes and families, across State lines, to access life-saving care.

In response to this crisis, I have issued two Executive Orders to protect a woman's right to access comprehensive reproductive health care services, including abortion and contraception. My Administration is working to ensure that patients receive care during medical emergencies; safeguard patients' privacy and their sensitive health information; and promote the safety and security of patients as well as providers, who are delivering the evidence-based, lawful care and treatment that they have been trained to provide. My Administration will continue to defend access to medication abortion and I will also continue to call on the Congress to restore the protections of Roe v. Wade in Federal law, which would secure the right to choose once and for all.

My Administration is also leading efforts to tackle the maternal health crisis, which has resulted in American women—particularly Black and Native American women—dying at a higher rate from pregnancy-related causes than in any other developed nation. As part of my Blueprint for Addressing the Maternal Health Crisis, we have extended Medicaid postpartum coverage across America and taken steps to grow and diversify the maternal health workforce, and we are working to improve access to care in rural communities and address systemic inequities that put many women at greater risk of pregnancy-related complications.

Vice President Kamala Harris has been a leader on the issue of maternal mortality for years, and she continues to elevate the problem nationally, convening State legislators, medical professionals, and private industry leaders to work together to develop solutions so all women can access the care they need before, during, and after childbirth.

To address the mental health challenges that new and expecting mothers may face, including postpartum depression, anxiety, or substance use disorder, my Administration launched the National Maternal Mental Health Hotline (1-833-TLC-MAMA) and the Maternal Mental Health Task Force, charged with improving maternal mental health in this country. We are making other investments in women's mental health as well, such as expanding Certified Community Behavioral Health Clinics, which deliver 24/7 mental health care to millions of Americans, regardless of their ability to pay. And my 2024 Budget proposes spending tens of billions over the next 10 years to transform our behavioral health system.

Standing up for women's health also means preventing gender-based violence and helping survivors access safety, justice, and healing. Last year, I was proud to reauthorize and strengthen the landmark Violence Against Women Act, which I first introduced in the United States Senate more than 30 years ago. We have increased funding for shelters and rape crisis centers, expanded access to housing and legal assistance for survivors of abusive relationships, and enhanced training for law enforcement agencies and courts. We have also expanded support for survivors—including addressing the needs of LGBTQI+ survivors and other underserved populations—and have broadened protections to cover online abuse, such as the non-consensual distribution of intimate images.

My Administration is fighting a wave of extreme State policies that target transgender women and girls to prevent or limit access to evidence-based, gender-affirming health care just because of who they are. I have challenged my Administration to address discrimination wherever we find it and to ensure equal access to health care for all Americans.

The First Lady and I are committed to ending cancer as we know it through the reignited Cancer Moonshot, including for the nearly one million American women who will be diagnosed with cancer this year. My Administration increased our investment in the Centers for Disease Control and Prevention's National Breast and Cervical Cancer Early Detection Program, which provides breast and cervical cancer screening and diagnostic services to those with low incomes who are uninsured or otherwise qualify for the program. We are bringing together community health centers and leading cancer centers to facilitate access to life-saving cancer screenings and close the screening gap. We have also created the Advanced Research Projects Agency for Health (ARPA-H) to deliver new, innovative, comprehensive ways to prevent, detect, and treat cancer and other diseases.

In addition, my Administration will continue its work to prevent health conditions that affect women, including heart disease and diabetes. Heart disease is the number one killer of women in this country. My Administration has a national strategy that seeks to improve access to affordable, healthy food; better integrate nutrition into the health care system; support physical activity for all; and enhance research into food and nutrition security. At the same time, experts agree it is important that women get regular checkups, preventive screenings, vaccinations, and mental health care.

This week, we make our message clear to women and girls across America: Your health impacts the future of our Nation. Achieving everything America aspires to be depends on the health, safety, and support we give to all women, who are leaders in every industry, in every community, and in every family.

NOW, THEREFORE, I, JOSEPH R. BIDEN JR., President of the United States of America, by virtue of the authority vested in me by the Constitution and the laws of the United States, do hereby proclaim May 14 through May 20, 2023, as National Women's Health Week. During this week, I encourage all Americans to join us in a collective effort to improve and support the health of women and girls and promote health equity for all. I encourage all women and girls to prioritize their health and catch up on any missed screenings, routine care, and vaccines.

IN WITNESS WHEREOF, I have hereunto set my hand this twelfth day of May, in the year of our Lord two thousand twenty-three, and of the Independence of the United States of America the two hundred and forty-seventh.

[FR Doc. 2023-10663

Filed 5-16-23; 8:45 am]

Billing code 3395-F3-P